DEPARTMENT OF HEALTH AND HUMAN SERVICES

Administration for Children and Families

Submission for OMB Review; Comment Request

Title: Evaluation of the Early Head Start Fatherhood Demonstration.

OMB No.: 0970-0239.

Description: The Administration on Children, Youth and Families (ACYF), in partnership with the Office of Child Support Enforcement (OCSE), funded 21 Early Head Start grantees in 2001 to develop and implement creative practices to increase the involvement of fathers in their Early Head Start program and in the lives of their children. ACYF subsequently commissioned a study to identify promising practices emerging through the first two years of the demonstration. The study involved site visits to participating programs, a survey of demonstration staff, and collection of father participation data from the demonstration programs. ACYF recently commissioned a follow-up study to investigate programs' efforts to sustain meaningful fatherhood initiatives after the demonstration grant funding ends. This submission requests approval to conduct site visits to a subset of approximately 9 programs as well as a second survey of staff and collection of father participation data from all 21 demonstration programs.

Respondents: To reduce the burden on demonstration staff, the survey will be configured in four versions. The Director Version will be completed by the Early Head Start program directors. The Father coordinator Version will be completed by the staff member responsible for father activities. The Family Specialist Version will be completed by the staff member who works most closely with the Early Head Start families in the home. The Teacher Version will be completed by the staff member working with families of children participating in the Early Head Start child care programs. Program staff will also be asked to submit data on participating fathers. For each child enrolled in the Early Head Start program, the site will be asked to complete a short “Father/Father Figure Information Form.” To avoid duplication of individual-level data, the programs are requested to provide extracts of information on the children and fathers in the program from their current management information systems whenever possible. The staff survey and father data instruments will be the same as those used in the Phase I study under the current OMB clearance no. 0970-0239. Site visit protocols used in the Phase I evaluation will also modified and shortened to address only those issues that are relevant to the research questions proposed in Phase II, focusing primarily on changes in program practices and new strategies for sustaining fatherhood initiatives.

Respondents: Early Head Start directors, fatherhood program coordinators, family specialists, teachers, and fathers and mothers of Early Head Start children.

Annual Burden Estimates
Instrument | Number of respondents | Number of responses per respondent | Average burden hours per response | Total burden hours
Site Visit Interviews and Focus Groups | 243 | 1 | 1.0 | 243.0
Director Version of Survey | 19 | 1 | .5 | 9.5
Father Coordinator Version of Survey | 19 | 1 | .5 | 9.5
Family Specialist Version of Survey | 19 | 1 | .4 | 7.6
Teacher Version of Survey | 17 | 1 | .4 | 6.8
Father/Father Figure Information Forms | 21 | ¹ 81 | .16 | 272.1
Estimated Total Annual Burden Hours |  |  |  | 548.5
¹ Average number per site.

SUPPLEMENTARY INFORMATION: copies of the proposed collection may be obtained by writing to the Administration for children and Families, Office of Administration, Office of Information Services, 370 L'Enfant promenade, SW., Washington, DC 20447, ACF Reports Clearance Officer. All requests should be identified by the title of the information collection. E-mail address: rsargis@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail addresses: lauren-wittenberg@omb.eop.gov.

Dated: October 6, 2003.
Robert Sargis,
Reports Clearance Officer.

[FR Doc. 03-25886 Filed 10-10-03; 8:45 am]

BILLING CODE 4184-01-M